COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes products and services from the Procurement List previously furnished by such agencies.

DATES: Date added to and deleted from the Procurement List: July 5, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 9/6/2019,the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

8405-01-683-2570—Trouser, Army Green Service Uniform, Men's, Classic Fit, Heritage Taupe, 32-S

8405-01-683-2572—Trouser, Army Green Service Uniform, Men's, Classic Fit, Heritage Taupe, 32-R

8405-01-683-2542—Trouser, Army Green Service Uniform, Men's, Classic Fit, Heritage Taupe, 28-S

8405-01-683-2543—Trouser, Army Green Service Uniform, Men's, Classic Fit, Heritage Taupe, 28-R

8405-01-683-2546—Trouser, Army Green Service Uniform, Men's, Classic Fit, Heritage Taupe, 29-S

8405-01-683-2547—Trouser, Army Green Service Uniform, Men's, Classic Fit, Heritage Taupe, 29-R

8405-01-683-2548—Trouser, Army Green Service Uniform, Men's, Classic Fit, Heritage Taupe, 29-L

8405-01-683-2549—Trouser, Army Green Service Uniform, Men's, Classic Fit, Heritage Taupe, 30-S

8405-01-683-2550—Trouser, Army Green Service Uniform, Men's, Classic Fit, Heritage Taupe, 30-L

8405-01-683-2551—Trouser, Army Green Service Uniform, Men's, Classic Fit, Heritage Taupe, 30-R

8405-01-683-2554—Trouser, Army Green Service Uniform, Men's, Classic Fit, Heritage Taupe, 30-XL

8405-01-683-2556—Trouser, Army Green Service Uniform, Men's, Classic Fit, Heritage Taupe, 31-S

8405-01-683-2558—Trouser, Army Green Service Uniform, Men's, Classic Fit, Heritage Taupe, 31-R

8405-01-683-2628—Trouser, Army Green Service Uniform, Men's, Classic Fit, Heritage Taupe, 32-L

8405-01-683-2630—Trouser, Army Green Service Uniform, Men's, Classic Fit, Heritage Taupe, 32-XL

8405-01-683-2632—Trouser, Army Green Service Uniform, Men's, Classic Fit, Heritage Taupe, 33-R

8405-01-683-2633—Trouser, Army Green Service Uniform, Men's, Classic Fit, Heritage Taupe, 33-S

8405-01-683-2635—Trouser, Army Green Service Uniform, Men's, Classic Fit, Heritage Taupe, 33-L

8405-01-683-2636—Trouser, Army Green Service Uniform, Men's, Classic Fit, Heritage Taupe, 33-XL

8405-01-683-2637—Trouser, Army Green Service Uniform, Men's, Classic Fit, Heritage Taupe, 34-S

8405-01-683-2638—Trouser, Army Green Service Uniform, Men's, Classic Fit, Heritage Taupe, 34-R

8405-01-683-2639—Trouser, Army Green Service Uniform, Men's, Classic Fit, Heritage Taupe, 34-L

8405-01-683-2640—Trouser, Army Green Service Uniform, Men's, Classic Fit, Heritage Taupe, 34-XL

8405-01-683-2644—Trouser, Army Green Service Uniform, Men's, Classic Fit, Heritage Taupe, 35-S

8405-01-683-2645—Trouser, Army Green Service Uniform, Men's, Classic Fit, Heritage Taupe, 35-R

8405-01-683-2647—Trouser, Army Green Service Uniform, Men's, Classic Fit, Heritage Taupe, 36-S

8405-01-683-2648—Trouser, Army Green Service Uniform, Men's, Classic Fit, Heritage Taupe, 35-L

8405-01-683-2650—Trouser, Army Green Service Uniform, Men's, Classic Fit, Heritage Taupe, 36-R

8405-01-683-2651—Trouser, Army Green Service Uniform, Men's, Classic Fit, Heritage Taupe, 36-L

8405-01-683-2652—Trouser, Army Green Service Uniform, Men's, Classic Fit, Heritage Taupe, 36-XL

8405-01-683-2653—Trouser, Army Green Service Uniform, Men's, Classic Fit, Heritage Taupe, 37-S

8405-01-683-2660—Trouser, Army Green Service Uniform, Men's, Classic Fit, Heritage Taupe, 37-R

8405-01-683-2662—Trouser, Army Green Service Uniform, Men's, Classic Fit, Heritage Taupe, 37-L

8405-01-683-2666—Trouser, Army Green Service Uniform, Men's, Classic Fit, Heritage Taupe, 38-S

8405-01-683-2667—Trouser, Army Green Service Uniform, Men's, Classic Fit, Heritage Taupe, 38-XL

8405-01-683-2668—Trouser, Army Green Service Uniform, Men's, Classic Fit, Heritage Taupe, 38-L

8405-01-683-2669—Trouser, Army Green Service Uniform, Men's, Classic Fit, Heritage Taupe, 38-R

8405-01-683-2670—Trouser, Army Green Service Uniform, Men's, Classic Fit, Heritage Taupe, 39-S

8405-01-683-2671—Trouser, Army Green Service Uniform, Men's, Classic Fit, Heritage Taupe, 39-R

8405-01-683-2672—Trouser, Army Green Service Uniform, Men's, Classic Fit, Heritage Taupe, 39-L

8405-01-683-2673—Trouser, Army Green Service Uniform, Men's, Classic Fit, Heritage Taupe, 40-S

8405-01-683-2674—Trouser, Army Green Service Uniform, Men's, Classic Fit, Heritage Taupe, 40-R

8405-01-683-2675—Trouser, Army Green Service Uniform, Men's, Classic Fit, Heritage Taupe, 40-XL

8405-01-683-2676—Trouser, Army Green Service Uniform, Men's, Classic Fit, Heritage Taupe, 40-L

8405-01-683-2677—Trouser, Army Green Service Uniform, Men's, Classic Fit, Heritage Taupe, 41-S

8405-01-683-2678—Trouser, Army Green Service Uniform, Men's, Classic Fit, Heritage Taupe, 41-R

8405-01-683-2679—Trouser, Army Green Service Uniform, Men's, Classic Fit, Heritage Taupe, 41-L

8405-01-683-2680—Trouser, Army Green Service Uniform, Men's, Classic Fit, Heritage Taupe, 42-R

8405-01-683-2682—Trouser, Army Green Service Uniform, Men's, Classic Fit, Heritage Taupe, 42-XL

8405-01-683-2684—Trouser, Army Green Service Uniform, Men's, Classic Fit, Heritage Taupe, 44-R

8405-01-683-2685—Trouser, Army Green Service Uniform, Men's, Classic Fit, Heritage Taupe, 44-L

8405-01-683-2686—Trouser, Army Green Service Uniform, Men's, Classic Fit, Heritage Taupe, 44-XL

8405-01-683-2687—Trouser, Army Green Service Uniform, Men's, Classic Fit, Heritage Taupe, 46-R

8405-01-683-2688—Trouser, Army Green Service Uniform, Men's, Classic Fit, Heritage Taupe, 46-XL

8405-01-683-2421—Trouser, Army Green Service Uniform, Men's, Athletic Fit, Heritage Taupe, 29-R

8405-01-683-2423—Trouser, Army Green Service Uniform, Men's, Athletic Fit, Heritage Taupe, 30-R

8405-01-683-2425—Trouser, Army Green Service Uniform, Men's, Athletic Fit, Heritage Taupe, 30-L

8405-01-683-2427—Trouser, Army Green Service Uniform, Men's, Athletic Fit, Heritage Taupe, 30-XL

8405-01-683-2428—Trouser, Army Green Service Uniform, Men's, Athletic Fit, Heritage Taupe, 31-R

8405-01-683-2429—Trouser, Army Green Service Uniform, Men's, Athletic Fit, Heritage Taupe, 32-R

8405-01-683-2430—Trouser, Army Green Service Uniform, Men's, Athletic Fit, Heritage Taupe, 31-L

8405-01-683-2431—Trouser, Army Green Service Uniform, Men's, Athletic Fit, Heritage Taupe, 32-L

8405-01-683-2432—Trouser, Army Green Service Uniform, Men's, Athletic Fit, Heritage Taupe, 32-XL

8405-01-683-2433—Trouser, Army Green Service Uniform, Men's, Athletic Fit, Heritage Taupe, 33-S

8405-01-683-2435—Trouser, Army Green Service Uniform, Men's, Athletic Fit, Heritage Taupe, 33-R

8405-01-683-2436—Trouser, Army Green Service Uniform, Men's, Athletic Fit, Heritage Taupe, 33-L

8405-01-683-2437—Trouser, Army Green Service Uniform, Men's, Athletic Fit, Heritage Taupe, 33-XL

8405-01-683-2438—Trouser, Army Green Service Uniform, Men's, Athletic Fit, Heritage Taupe, 34-S

8405-01-683-2439—Trouser, Army Green Service Uniform, Men's, Athletic Fit, Heritage Taupe, 34-R

8405-01-683-2440—Trouser, Army Green Service Uniform, Men's, Athletic Fit, Heritage Taupe, 34-L

8405-01-683-2441—Trouser, Army Green Service Uniform, Men's, Athletic Fit, Heritage Taupe, 34-XL

8405-01-683-2442—Trouser, Army Green Service Uniform, Men's, Athletic Fit, Heritage Taupe, 35-S

8405-01-683-2443—Trouser, Army Green Service Uniform, Men's, Athletic Fit, Heritage Taupe, 35-R

8405-01-683-2444—Trouser, Army Green Service Uniform, Men's, Athletic Fit, Heritage Taupe, 35-L

8405-01-683-2445—Trouser, Army Green Service Uniform, Men's, Athletic Fit, Heritage Taupe, 36-S

8405-01-683-2446—Trouser, Army Green Service Uniform, Men's, Athletic Fit, Heritage Taupe, 36-R

8405-01-683-2447—Trouser, Army Green Service Uniform, Men's, Athletic Fit, Heritage Taupe, 36-L

8405-01-683-2452—Trouser, Army Green Service Uniform, Men's, Athletic Fit, Heritage Taupe, 36-XL

8405-01-683-2453—Trouser, Army Green Service Uniform, Men's, Athletic Fit, Heritage Taupe, 37-S

8405-01-683-2455—Trouser, Army Green Service Uniform, Men's, Athletic Fit, Heritage Taupe, 37-L

8405-01-683-2456—Trouser, Army Green Service Uniform, Men's, Athletic Fit, Heritage Taupe, 37-R

8405-01-683-2457—Trouser, Army Green Service Uniform, Men's, Athletic Fit, Heritage Taupe, 38-S

8405-01-683-2459—Trouser, Army Green Service Uniform, Men's, Athletic Fit, Heritage Taupe, 38-R

8405-01-683-2461—Trouser, Army Green Service Uniform, Men's, Athletic Fit, Heritage Taupe, 38-L

8405-01-683-2462—Trouser, Army Green Service Uniform, Men's, Athletic Fit, Heritage Taupe, 38-XL

8405-01-683-2463—Trouser, Army Green Service Uniform, Men's, Athletic Fit, Heritage Taupe, 39-S

8405-01-683-2464—Trouser, Army Green Service Uniform, Men's, Athletic Fit, Heritage Taupe, 39-R

8405-01-683-2465—Trouser, Army Green Service Uniform, Men's, Athletic Fit, Heritage Taupe, 39-L

8405-01-683-2466—Trouser, Army Green Service Uniform, Men's, Athletic Fit, Heritage Taupe, 40-S

8405-01-683-2467—Trouser, Army Green Service Uniform, Men's, Athletic Fit, Heritage Taupe, 40-R

8405-01-683-2468—Trouser, Army Green Service Uniform, Men's, Athletic Fit, Heritage Taupe, 40-L

8405-01-683-2469—Trouser, Army Green Service Uniform, Men's, Athletic Fit, Heritage Taupe, 40-XL

8405-01-683-2477—Trouser, Army Green Service Uniform, Men's, Athletic Fit, Heritage Taupe, 41-S

8405-01-683-2478—Trouser, Army Green Service Uniform, Men's, Athletic Fit, Heritage Taupe, 41-R

8405-01-683-2481—Trouser, Army Green Service Uniform, Men's, Athletic Fit, Heritage Taupe, 42-R

8405-01-683-2482—Trouser, Army Green Service Uniform, Men's, Athletic Fit, Heritage Taupe, 44-R

8405-01-683-2483—Trouser, Army Green Service Uniform, Men's, Athletic Fit, Heritage Taupe, 42-XL

8405-01-683-2484—Trouser, Army Green Service Uniform, Men's, Athletic Fit, Heritage Taupe, 44-L

8405-01-683-2485—Trouser, Army Green Service Uniform, Men's, Athletic Fit, Heritage Taupe, 44-XL

8405-01-683-2488—Trouser, Army Green Service Uniform, Men's, Athletic Fit, Heritage Taupe, 46-R

8405-01-683-2489—Trouser, Army Green Service Uniform, Men's, Athletic Fit, Heritage Taupe, 46-XL

8405-01-683-2511—Trouser, Army Green Service Uniform, Men's, Classic Fit, Heritage Taupe, 26-R

8405-01-683-9562—Trouser, Army Green Service Uniform, Men's, Athletic Fit, Heritage Taupe, 42-L

8405-01-683-9565—Trouser, Army Green Service Uniform, Men's, Athletic Fit, Heritage Taupe, 46-L

8405-01-683-9566—Trouser, Army Green Service Uniform, Men's, Athletic Fit, Heritage Taupe, 42-S

8405-01-683-9579—Trouser, Army Green Service Uniform, Men's, Classic Fit, Heritage Taupe, 42-L

8405-01-683-9595—Trouser, Army Green Service Uniform, Men's, Classic Fit, Heritage Taupe, 42-S

8405-01-683-2568—Trouser, Army Green Service Uniform, Men's, Classic Fit, Heritage Taupe, 31-L

8405-01-683-2486—Trouser, Army Green Service Uniform, Men's, Athletic Fit, Heritage Taupe, 41-L

8405-01-683-9594—Trouser, Army Green Service Uniform, Men's, Classic Fit, Heritage Taupe, 46-L

Mandatory Source of Supply: VGS, Inc., Cleveland, OH

Contracting Activity: DEPT OF THE ARMY, W6QK ACC-APG NATICK

Deletions

On 5/1/2020, the Committee for Purchase From People Who Are Blind or Severely Disabled published notice of proposed deletions from the Procurement List. This notice is published pursuant to 41 U.S.C. 8503 (a)(2) and 41 CFR 51-2.3.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

6160-01-184-0643—Retainer Battery

Mandatory Source of Supply: The Lighthouse for the Blind, Inc. (Seattle Lighthouse), Seattle, WA

Contracting Activity: DLA AVIATION, RICHMOND, VA

NSN(s)—Product Name(s):

MR 13110—Cake Cutter, Slice N' Easy

Mandatory Source of Supply: Winston-Salem Industries for the Blind, Inc., Winston-Salem, NC

Contracting Activity: Military Resale-Defense Commissary Agency

NSN(s)—Product Name(s):

7340-00-J19-1300—Spoon, Picnic, Plastic

7340-00-J19-1300a—Spoon, Picnic, Plastic

7340-00-J19-2052a—Spoon, Picnic, Plastic

Mandatory Source of Supply: LC Industries, Inc., Durham, NC

Contracting Activity: DLA TROOP SUPPORT, PHILADELPHIA, PA

Services

Service Type: Mailroom Operation

Mandatory for: 14th U.S. Coast Guard District, 300 Ala Moana Boulevard, Honolulu, HI

Mandatory Source of Supply: Goodwill Contract Services of Hawaii, Inc., Honolulu, HI

Contracting Activity: U.S. COAST GUARD, SILC BSS

Service Type: Food Service Attendants

Mandatory for: New Hampshire Air National Guard, Pease Air National Guard Base, Pease ANGB, NH

Mandatory Source of Supply: CW Resources, Inc., New Britain, CT

Contracting Activity: DEPT OF THE ARMY, W7NN USPFO ACTIVITY NH ARNG

Service Type: Janitorial/Custodial

Mandatory for: US Army, IL027 Forest Park AFRC, Forest Park, IL

Mandatory Source of Supply: Jewish Child and Family Services, Chicago, IL

Contracting Activity: DEPT OF THE ARMY, W6QM MICC FT MCCOY (RC)

Michael R. Jurkowski,
Deputy Director, Business & PL Operations.

[FR Doc. 2020-12196 Filed 6-4-20; 8:45 am]

BILLING CODE 6353-01-P